DEPARTMENT OF AGRICULTURE

Commodity Credit Corporation

Domestic Sugar Program—FY 2024 Reassignment and FY25 Overall Sugar Marketing Allotment, Cane Sugar and Beet Sugar Marketing Allotments and Company Allocations

AGENCY: Commodity Credit Corporation, Department of Agriculture.

ACTION: Notice.

SUMMARY: The United States Department of Agriculture (USDA) is issuing this notice to: revise fiscal year (FY) 2024 (crop year 2023) State cane sugar allotments and allocations to sugarcane processors; reassign FY 2024 cane sugar marketing allocations to raw cane sugar imports already anticipated; and announce the FY 2025 (crop year 2024) overall sugar marketing allotment quantity (OAQ), State cane sugar allotments, and sugar beet and sugarcane processor allocations. The first two actions apply to all domestic cane sugar marketed for human consumption in the United States from October 1, 2023, through September 30, 2024, and third action applies to all domestic beet and cane sugar marketed for human consumption in the United States from October 1, 2024, through September 30, 2025.

FOR FURTHER INFORMATION CONTACT: Carlann Unger, telephone, (773) 573-5163; or email, carlann.unger@usda.gov. Individuals who require alternative means for communication should contact the U.S. Target Center at (202) 720-2600 (voice and text telephone (TTY)) or dial 711 for Telecommunications Relay service (both voice and text telephone users can initiate this call from any telephone).

SUPPLEMENTARY INFORMATION:

Revisions and Reassignments of FY 2024 Sugar Cane Allotments and Allocations

On October 13, 2023, USDA announced the initial FY 2024 OAQ, which was established at 10,667,500 short tons, raw value, (STRV) equal to 85 percent of the estimated quantity of sugar for domestic human consumption for the fiscal year of 12,550,000 STRV as forecast in the September 2023 World Agricultural Supply and Demand Estimates report (WASDE). The Agricultural Adjustment Act of 1938 (Pub. L. 75-430, 7 U.S.C. chapter 35) requires that 54.35 percent of the OAQ be distributed among beet processors and 45.65 percent be distributed among the sugarcane States and cane processors. The beet and cane sector allotments were distributed to individual processors according to statutory formulas.

On August 2, 2024, USDA announced revisions to the FY 2024 (crop year 2023) State cane sugar allotments and allocations to sugarcane processors, revisions to the company allocations to sugar beet processors, and the reassignment of deficits to raw cane sugar imports already anticipated, as reflected in the second column of the Table 1 in the published notice (89 FR 63157-63159).

In accordance with section 359e of the Agricultural Adjustment Act of 1938 (7 U.S.C. 1359ee), after evaluating each sugarcane processor's ability to market its full allocation, USDA now is transferring FY 2024 allocations from sugarcane processors with surplus allocation to those with deficit allocation as shown in the Table 1 below. USDA has also determined that domestic cane sugar supplies are inadequate to fill the FY 2024 cane sugar marketing allotment.

In accordance with 7 U.S.C. 1359ee(b)(2), USDA is reassigning 40,000 STRV of the deficit to raw cane sugar imports already anticipated, given the absence of any Commodity Credit Corporation (CCC) stocks of sugar. In the table below, each sugar cane processor's allocation resulting from these changes are shown in the column labeled as “Revised Allocations & Allotments” and the amount of change in each cane processor's allocation in the column labeled as “Reassignments.”

USDA is not reassigning any FY 2024 beet allocations to raw cane sugar imports at this time given the uncertainty about how much beet sugar will be produced from new crop sugar beets in the final 2 months (August-September) of FY 2024.

Table 1—FY 2024 Revised Beet and Cane Allotments and Allocations
[Short tons, raw value]
Distribution | Initial FY24 allotments & allocations | FY24 revisions 8/2/2024 | Reassignments | Revised allotments & allocations
Beet Sugar | 5,797,786 | 5,547,786 | 0 | 5,547,786
Cane Sugar | 4,869,714 | 4,269,714 | −40,000 | 4,229,714
Imports |  | 850,000 | 40,000 | 890,000
Total OAQ | 10,667,500 | 10,667,500 | 0 | 10,667,500
Beet Processors' Marketing Allocations
Amalgamated Sugar Co | 1,241,350 | 1,233,233 | 0 | 1,233,233
American Crystal Sugar Co | 2,132,371 | 1,967,011 | 0 | 1,967,011
Michigan Sugar Co | 598,769 | 686,251 | 0 | 686,251
Minn-Dak Farmers Co-op | 402,650 | 373,315 | 0 | 373,315
So. Minn Beet Sugar Co-op | 782,517 | 723,206 | 0 | 723,206
Western Sugar Co | 591,583 | 514,739 | 0 | 514,739
Wyoming Sugar Company, LLC | 48,546 | 50,031 | 0 | 50,031
Total Beet Sugar | 5,797,786 | 5,547,786 | 0 | 5,547,786
State Cane Sugar Allotments
Florida | 2,617,360 | 2,147,104 | −38,826 | 2,108,278
Louisiana | 2,024,823 | 2,059,420 | 18,244 | 2,077,664
Texas | 227,531 | 63,190 | −19,418 | 43,772
Total Cane Sugar | 4,869,714 | 4,269,714 | −40,000 | 4,229,714
Cane Processors' Marketing Allocations
Florida:
Florida Crystals | 1,077,635 | 725,204 | −42,031 | 683,174
Growers Co-op. of FL | 470,825 | 474,161 | 22,988 | 497,149
U.S. Sugar Corp | 1,068,900 | 947,739 | −19,784 | 927,955
Total Florida | 2,617,360 | 2,147,104 | −38,826 | 2,108,278
Louisiana:
Sugar Growers and Refiners | 1,405,697 | 1,425,961 | 18,244 | 1,444,205
M.A. Patout & Sons | 619,126 | 633,459 | 0 | 633,459
Total Louisiana | 2,024,823 | 2,059,420 | 18,244 | 2,077,664
Texas:
Rio Grande Valley | 227,531 | 63,190 | −19,418 | 43,772
* Values may not sum to column total due to rounding.

FY 2025 Overall Sugar Marketing Allotment, Cane Sugar and Beet Sugar Marketing Allotments, and Company Allocations

The Agricultural Adjustment Act of 1938, as amended, requires USDA to establish the OAQ at a quantity not less than 85 percent of the estimated quantity of sugar for domestic human consumption for the crop year. USDA is establishing the initial FY 2025 (crop year 2024) OAQ at 10,455,000 STRV, equal to 85 percent of 12,300,000 STRV, the estimated quantity of sugar for domestic human consumption for FY 2025 as forecast in the September 2024 WASDE. Per the Agricultural Adjustment Act of 1938, as amended, 54.35 percent of the OAQ is distributed among beet processors and 45.65 percent is distributed among the sugarcane States and cane processors, with the beet and cane sector allotments distributed to individual processors according to formulas set out in law.¹ Although the Agricultural Adjustment Act of 1938, as amended, directs USDA to assign 325,000 STRV of the cane sector allotment to “offshore States,” CCC has determined that while sugarcane was formerly produced in Puerto Rico and Hawaii, both have permanently exited sugarcane production. As a result, CCC has allocated the 325,000 STRV of the cane sector allotment previously reserved for offshore States to the mainland sugarcane producing States. Additionally, because no sugarcane crop is estimated to be produced in Texas during FY 2025 (crop year 2024), CCC is immediately reassigning the Texas portion of the mainland sugarcane allotment, 222,999 STRV, to the other mainland sugarcane producing states on a proportional basis as follows: 125,732 STRV to Florida and 97,267 STRV to Louisiana. The initial FY 2025 sugar marketing State allotments and processor allocations, are listed in the table below.

¹ See 7 U.S.C. 1359aa-1359ll, and 7 CFR part 1435.

Table 2—FY 2025 Initial State Allotments and Beet and Cane Processor Allocations
[Short tons, raw value]
Distribution | Initial FY25 allotments & allocations
Beet Sugar | 5,682,293
Cane Sugar | 4,772,708
Total OAQ | 10,455,000
Beet Processors Marketing Allocations
Amalgamated Sugar Co | 1,216,622
American Crystal Sugar Co | 2,089,791
Michigan Sugar Co | 586,842
Minn-Dak Farmers Co-op | 394,629
So. Minn Beet Sugar Co-op | 766,929
Western Sugar Co | 579,901
Wyoming Sugar Company, LLC | 47,579
Total Beet Sugar | 5,682,293
State Cane Sugar Allotments
Florida | 2,690,953
Louisiana | 2,081,755
Texas | 0
Total Cane Sugar | 4,772,708
Cane Processors' Marketing Allocations
Florida:
Florida Crystals | 1,107,936
Growers Co-op. of FL | 484,063
U.S. Sugar Corp | 1,098,954
Total Florida | 2,690,953
Louisiana:
Sugar Growers and Refiners | 1,445,222
M.A. Patout & Sons | 636,533
Total Louisiana | 2,081,755
Texas:
Rio Grande Valley | 0
* Values may not sum to column total due to rounding.

USDA will closely monitor stocks, consumption, imports and all sugar market and program variables on an ongoing basis and may make program adjustments during FY 2025 if needed.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunication Relay Service (both voice and text telephone users can initiate this call from any telephone. Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) Fax: (202) 690-7442; or (3) email: program.intake@usda.gov.

USDA is an equal opportunity provider, employer, and lender.

Steven Peterson,
Executive Vice President, Commodity Credit Corporation.

[FR Doc. 2024-22384 Filed 9-27-24; 8:45 am]

BILLING CODE 3411-E2-P